DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice.

DATE AND TIME: The public meeting will be held April 14-15, 2009, from 8 a.m. to 5 p.m. The times and agenda topics are subject to change. Refer to the HSRP Web site listed below for the most current meeting agenda.

LOCATION: Renaissance Baltimore Harborplace Hotel, 202 East Pratt Street, Baltimore, Maryland 21202, Tel: (410) 547-1200, and Fax: (410) 539-5780.

FOR FURTHER INFORMATION CONTACT: Captain Steven Barnum, NOAA, Designated Federal Official (DFO), Office of Coast Survey, National Ocean Service (NOS), NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: The meeting will be open to the public and public comment periods will be scheduled at various times throughout the meeting. These comment periods will be part of the final agenda that will be published before the meeting date on the HSRP Web site listed above. Each individual or group making a verbal presentation will be limited to a total time of five (5) minutes. Written comments (at least 30 copies) should be submitted to the DFO by April 3, 2009. Written comments received by the DFO after April 3, 2009, will be distributed to the HSRP, but may not be reviewed before the meeting date. Approximately 25 seats will be available for the public, on a first-come, first-served basis.

Matters To Be Considered: (1) NOAA's Next Generation Strategic Plan and agency/congressional updates; (2) Panel discussion with various stakeholders in the region on use of and interest in NOAA Navigation Services; (3) Updates on NOAA PORTS® project, NOAA's Height Modernization, Print on Demand, Integrated Ocean and Coastal Mapping, and Arctic issues; and (4) public statements.

Dated: March 23, 2009.
Captain Steven R. Barnum,
Director, Office of Coast Survey, National Ocean Service, National Oceanic and Atmospheric Administration.

[FR Doc. E9-7236 Filed 3-31-09; 8:45 am]

BILLING CODE 3510-JE-P